DEPARTMENT OF COMMERCE

National Telecommunications and Information Administration

First Responder Network Authority

First Responder Network Authority Combined Committee and Board Meeting

AGENCY: First Responder Network Authority (FirstNet), National Telecommunications and Information Administration, U.S. Department of Commerce.

ACTION: Notice of public meeting of the First Responder Network Authority Board.

SUMMARY: The Board of the First Responder Network Authority (Board) and the Board Committees of the First Responder Network Authority (Board Committees) will convene an open public teleconference and webinar Combined Board Committees and Board meeting on March 14, 2017.

DATES: A combined meeting of the FirstNet Board and FirstNet Board Committees will be held on March 14, 2017, between 1:00 p.m. and 3:00 p.m. (EST). The meeting of the Board and Board Committees will be open to the public from 1:00 p.m. to 2:05 p.m. and 2:35 p.m. to 3:00 p.m. (EST). The Board and Board Committees will be in a closed session from 2:05 p.m. to 2:35 p.m. (EST).

ADDRESSES: The meetings on March 14, 2017, will be conducted via teleconference and webinar. Members of the public may listen to the meeting by dialing toll free 1-877-709-5347 and using passcode 1534864. To view the slide presentation, the public may visit the URL: https://www.mymeetings.com/com/nc/join and enter Conference Number PWXW3143798 and audio passcode 1534864. Alternatively, members of the public may view the slide presentation by directly visiting the URL: https://www.mymeetings.com/nc/join.php?i=PWXW3143798&p=1534864&t=c.

FOR FURTHER INFORMATION CONTACT: Karen Miller-Kuwana, Board Secretary, FirstNet, 12201 Sunrise Valley Drive, M/S 243, Reston, VA 20192; telephone: (571) 665-6177; email: Karen.Miller-Kuwana@firstnet.gov. Please direct media inquiries to Ryan Oremland at (571) 665-6186.

SUPPLEMENTARY INFORMATION: This notice informs the public that the FirstNet Board and the Board Committees will convene an open public teleconference and webinar Combined Board Committees and Board meeting on March 14, 2017.

Background: The Middle Class Tax Relief and Job Creation Act of 2012 (Pub. L. 112-96, Title VI, 126 Stat. 256 (codified at 47 U.S.C. 1401 et seq.)) (Act) established FirstNet as an independent authority within the National Telecommunications and Information Administration that is headed by a Board. The Act directs FirstNet to ensure the building, deployment, and operation of a nationwide, interoperable public safety broadband network. The FirstNet Board is responsible for making strategic decisions regarding FirstNet's operations. The FirstNet Board held its first public meeting on September 25, 2012.

Matters to be Considered: FirstNet will post a detailed agenda for the Combined Board Committees and Board Meeting on its Web site, http://www.firstnet.gov, prior to the meeting. The agenda topics are subject to change. Please note that the subjects that will be discussed by the Board Committees and the Board may involve commercial or financial information that is privileged or confidential or other legal matters affecting FirstNet. As such, the Board Committee Chairs and Board Chair may call for a vote to close the meetings only for the time necessary to preserve the confidentiality of such information, pursuant to 47 U.S.C. 1424(e)(2).

Times and Dates of Meeting: A combined meeting of the FirstNet Board and FirstNet Board Committees will be held on March 14, 2017, between 1:00 p.m. and 3:00 p.m. (EST). The meeting of the Board and Board Committees will be open to the public from 1:00 p.m. to 2:05 p.m. and 2:35 p.m. to 3:00 p.m. (EST). The Board and Board Committees will be in a closed session from 2:05 p.m. to 2:35 p.m. (EST). The times listed above are subject to change. Please refer to FirstNet's Web site at www.firstnet.gov for the most up-to-date information.

Place: The meeting on March 14, 2017, will be conducted via teleconference and webinar. Members of the public may listen to the meeting by dialing toll free 1-877-709-5347 and using passcode 1534864. To view the slide presentation, the public may visit the URL: https://www.mymeetings.com/com/nc/join and enter Conference Number PWXW3143798 and audio passcode 1534864. Alternatively, members of the public may view the slide presentation by directly visiting the URL: https://www.mymeetings.com/nc/join.php?i=PWXW3143798&p=1534864&t=c.

Other Information: The teleconference for the Combined Board Committees and Board Meeting is open to the public. On the date and time of the meeting, members of the public may call toll free 1-877-709-5347 and use passcode 1534864. To view the slide presentation, the public may visit the URL: https://www.mymeetings.com/com/nc/join and enter Conference Number PWXW3143798 and audio passcode 1534864. Alternatively, members of the public may view the slide presentation by directly visiting the URL: https://www.mymeetings.com/nc/join.php?i=PWXW3143798&p=1534864&t=c.

If you experience technical difficulty, please contact the Conferencing Center customer service at 1-866-900-1011. Public access will be limited to listen-only. Due to the limited number of ports, attendance via teleconference will be on a first-come, first-served basis. The Combined Board Committees and Board Meeting is accessible to people with disabilities. Individuals requiring accommodations are asked to notify Ms. Miller-Kuwana by telephone (571) 665-6177 or email at Karen.Miller-Kuwana@firstnet.gov at least five (5) business days before the applicable meeting.

Records: FirstNet maintains records of all FirstNet Board proceedings. Minutes of the FirstNet Board Meeting and the Board Committee meetings will be available at www.firstnet.gov.

Dated: March 3, 2017.
Karen Miller-Kuwana,
Board Secretary, First Responder Network Authority.

[FR Doc. 2017-04595 Filed 3-8-17; 8:45 am]

BILLING CODE 3510-TL-P